DEPARTMENT OF HOMELAND SECURITY

Federal Emergency Management Agency

[Docket ID FEMA-2018-0002; Internal Agency Docket No. FEMA-B-1855]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community No.
Alabama:
Lee | City of Smiths Station (18-04-3883P) | The Honorable F.L. Bubba Copeland, Mayor, City of Smiths Station, 2336 Lee Road 430, Smiths Station, AL 36877 | City Hall, 2336 Lee Road 430, Smiths Station, AL 36877 | https://msc.fema.gov/portal/advanceSearch | Dec. 3, 2018 | 010491
Lee | Unincorporated Areas of Lee County (18-04-3883P) | The Honorable Bill English, Chairman, Lee County Board of Commissioners, P.O. Box 666, Opelika, AL 36803 | Lee County Building Department, 100 Orr Avenue, Opelika, AL 36801 | https://msc.fema.gov/portal/advanceSearch | Dec. 3, 2018 | 010250
Russell | City of Phenix City (18-04-3883P) | The Honorable Eddie N. Lowe, Mayor, City of Phenix City, 601 12th Street, Phenix City, AL 36867 | City Hall, 601 12th Street, Phenix City, AL 36867 | https://msc.fema.gov/portal/advanceSearch | Dec. 3, 2018 | 010184
Shelby | City of Helena (18-04-3885P) | The Honorable Mark R. Hall, Mayor, City of Helena, 816 Highway 52 East, Helena, AL 35080 | City Hall, 816 Highway 52 East, Helena, AL 35080 | https://msc.fema.gov/portal/advanceSearch | Dec. 10, 2018 | 010294
Shelby | City of Pelham (18-04-3885P) | The Honorable Gary W. Waters, Mayor, City of Pelham, 3162 Pelham Parkway, Pelham, AL 35124 | City Hall, 3162 Pelham Parkway, Pelham, AL 35124 | https://msc.fema.gov/portal/advanceSearch | Dec. 10, 2018 | 010193
Colorado:
Adams | City of Commerce City (18-08-0619P) | The Honorable Sean Ford, Mayor, City of Commerce City, 7887 East 60th Avenue, Commerce City, CO 80022 | City Hall, 5291 East 60th Avenue, Commerce City, CO 80022 | https://msc.fema.gov/portal/advanceSearch | Dec. 5, 2018 | 080006
Adams | Unincorporated areas of Adams County (18-08-0619P) | The Honorable Mary Hodge, Chair, Adams County Board of Commissioners, 4430 South Adams County Parkway, 5th Floor, Suite C5000A, Brighton, CO 80601 | Adams County Community and Economic Development Department, 4430 South Adams County Parkway, Brighton, CO 80601 | https://msc.fema.gov/portal/advanceSearch | Dec. 5, 2018 | 080001
El Paso | City of Manitou Springs (18-08-0141P) | The Honorable Ken A. Jaray, Mayor, City of Manitou Springs, 606 Manitou Avenue, Manitou Springs, CO 80829 | City Hall, 606 Manitou Avenue, Manitou Springs, CO 80829 | https://msc.fema.gov/portal/advanceSearch | Dec. 20, 2018 | 080063
Florida:
Collier | City of Marco Island (18-04-5420P) | The Honorable Jared Grifoni, Chairman, City of Marco Island Council, 50 Bald Eagle Drive, Marco Island, FL 34145 | Building Services Department, 50 Bald Eagle Drive, Marco Island, FL 34145 | https://msc.fema.gov/portal/advanceSearch | Dec. 19, 2018 | 120426
Collier | City of Naples (18-04-4573P) | The Honorable Bill Barnett, Mayor, City of Naples, 735 8th Street South, Naples, FL 34102 | Building Department, 295 Riverside Circle, Naples, FL 34102 | https://msc.fema.gov/portal/advanceSearch | Dec. 7, 2018 | 125130
Lee | City of Sanibel (18-04-4404P) | The Honorable Kevin Ruane, Mayor, City of Sanibel, 800 Dunlop Road, Sanibel, FL 33957 | Planning Department, 800 Dunlop Road, Sanibel, FL 33957 | https://msc.fema.gov/portal/advanceSearch | Dec. 7, 2018 | 120402
Lee | City of Sanibel (18-04-4629P) | The Honorable Kevin Ruane, Mayor, City of Sanibel, 800 Dunlop Road, Sanibel, FL 33957 | Planning Department, 800 Dunlop Road, Sanibel, FL 33957 | https://msc.fema.gov/portal/advanceSearch | Dec. 19, 2018 | 120402
Monroe | Unincorporated areas of Monroe County (18-04-4989P) | The Honorable David Rice, Mayor, Monroe County Board of Commissioners, 9400 Overseas Highway, Suite 210, Marathon, FL 33050 | Monroe County Building Department, 2798 Overseas Highway, Suite 300, Marathon, FL 33050 | https://msc.fema.gov/portal/advanceSearch | Dec. 26, 2018 | 125129
Monroe | Unincorporated areas of Monroe County (18-04-4990P) | The Honorable David Rice, Mayor, Monroe County Board of Commissioners, 9400 Overseas Highway, Suite 210, Marathon, FL 33050 | Monroe County Building Department, 2798 Overseas Highway, Suite 300, Marathon, FL 33050 | https://msc.fema.gov/portal/advanceSearch | Dec. 27, 2018 | 125129
Monroe | Unincorporated areas of Monroe County (18-04-4991P) | The Honorable David Rice, Mayor, Monroe County, Board of Commissioners, 9400 Overseas Highway, Suite 210, Marathon, FL 33050 | Monroe County Building Department, 2798 Overseas Highway, Suite 300, Marathon, FL 33050 | https://msc.fema.gov/portal/advanceSearch | Dec. 26, 2018 | 125129
Pinellas | Unincorporated areas of Pinellas County (18-04-2032P) | The Honorable Kenneth T. Welch, Chairman, Pinellas County Board of Commissioners, 315 Court Street, Clearwater, FL 33756 | Pinellas County Building Services Department, 440 Court Street, Clearwater, FL 33756 | https://msc.fema.gov/portal/advanceSearch | Dec. 20, 2018 | 125139
Georgia: Walton | Unincorporated areas of Walton County (18-04-3815P) | The Honorable Kevin Little, Chairman, Walton County Board of Commissioners, 111 South Broad Street, Monroe, GA 30655 | Walton County Planning and Development, 303 South Hammond Drive, Suite 98, Monroe, GA 30655 | https://msc.fema.gov/portal/advanceSearch | Dec. 20, 2018 | 130185
Kentucky: Hopkins | City of Madisonville (18-04-2820P) | The Honorable David Jackson, Mayor, City of Madisonville, 67 North Main Street, Madisonville, KY 42431 | Engineering Department, 604 McCoy Avenue, Madisonville, KY 42431 | https://msc.fema.gov/portal/advanceSearch | Nov. 28, 2018 | 210115
Louisiana:
Iberia | City of New Iberia (18-06-0845P) | The Honorable Freddie DeCourt, Mayor, City of New Iberia, 457 East Main Street, Suite 300, New Iberia, LA 70560 | Permits and Inspections Department, 457 East Main Street, Suite 412, New Iberia, LA 70560 | https://msc.fema.gov/portal/advanceSearch | Dec. 19, 2018 | 220082
Iberia | Unincorporated areas of Iberia Parish (18-06-0845P) | The Honorable Scott Saunier, Chief Administrative Officer, Iberia Parish, 300 Iberia Street, Suite 400, New Iberia, LA 70560 | Iberia Parish Permits, Planning, Zoning and Building Department, 715-A Weldon Street, New Iberia, LA 70560 | https://msc.fema.gov/portal/advanceSearch | Dec. 19, 2018 | 220078
Massachusetts:
Barnstable | Town of Truro (18-01-0789P) | The Honorable Robert Weinstein, Chairman, Town of Truro Board of Selectmen, 24 Town Hall Road, Truro, MA 02666 | Building Department, 24 Town Hall Road, Truro, MA 02666 | https://msc.fema.gov/portal/advanceSearch | Dec. 17, 2018 | 255222
Barnstable | Town of Wellfleet (18-01-0789P) | The Honorable Janet Reinhart, Chair, Town of Wellfleet Board of Selectmen, 300 Main Street, Wellfleet, MA 02667 | Building Department, 220 West Main Street, Wellfleet, MA 02667 | https://msc.fema.gov/portal/advanceSearch | Dec. 17, 2018 | 250014
New Mexico:
Bernalillo | City of Albuquerque (18-06-0625P) | The Honorable Tim Keller, Mayor, City of Albuquerque, P.O. Box 1293, Albuquerque, NM 87103 | Development Review Services Division, 600 2nd Street Northwest, Albuquerque, NM 87102 | https://msc.fema.gov/portal/advanceSearch | Dec. 17, 2018 | 350002
Bernalillo | Unincorporated areas of Bernalillo County (18-06-0625P) | Ms. Julie Morgas Baca, Bernalillo County Manager, 1 Civic Plaza Northwest, 10th Floor, Albuquerque, NM 87102 | Bernalillo County Public Works Division, 2400 Broadway Boulevard Southeast, Albuquerque, NM 87102 | https://msc.fema.gov/portal/advanceSearch | Dec. 17, 2018 | 350001
Pennsylvania:
Columbia | Town of Bloomsburg (18-03-0068P) | The Honorable William Kreisher, Mayor, Town of Bloomsburg, 301 East 2nd Street, Bloomsburg, PA 17815 | Town Hall, 301 East 2nd Street, Bloomsburg, PA 17815 | https://msc.fema.gov/portal/advanceSearch | Dec. 28, 2018 | 420339
Columbia | Township of Catawissa (18-03-0068P) | The Honorable Roger W. Nuss, Chairman, Township of Catawissa Board of Supervisors, 153 Old Reading Road, Catawissa, PA 17820 | Township Hall, 153 Old Reading Road, Catawissa, PA 17820 | https://msc.fema.gov/portal/advanceSearch | Dec. 28, 2018 | 420342
South Carolina:
Charleston | Town of Sullivan's Island (18-04-5145P) | The Honorable Patrick O'Neil, Mayor, Town of Sullivan's Island, P.O. Box 427, Sullivan's Island, SC 29482 | Town Hall, 2056 Middle Street, Sullivan's Island, SC 29482 | https://msc.fema.gov/portal/advanceSearch | Jan. 2, 2019 | 455418
Charleston | Town of Sullivan's Island (18-04-5277P) | The Honorable Patrick O'Neil, Mayor, Town of Sullivan's Island, P.O. Box 427, Sullivan's Island, SC 29482 | Town Hall, 2056 Middle Street, Sullivan's Island, SC 29482 | https://msc.fema.gov/portal/advanceSearch | Jan. 2, 2019 | 455418
South Dakota: Minnehaha | City of Sioux Falls (18-08-0836P) | The Honorable Paul Ten Haken, Mayor, City of Sioux Falls, 224 West 9th Street, Sioux Falls, SD 57104 | Planning and Development Services Department, 231 North Dakota Avenue, Sioux Falls, SD 57104 | https://msc.fema.gov/portal/advanceSearch | Dec. 20, 2018 | 460060
Tennessee: Washington | City of Johnson City (18-04-4923P) | The Honorable David Tomita, Mayor, City of Johnson City, P.O. Box 2150, Johnson City, TN 37605 | Public Works Department, 601 East Main Street, Johnson City, TN 37605 | https://msc.fema.gov/portal/advanceSearch | Jan. 2, 2019 | 475432
Texas:
Dallas | Town of Sunnyvale (18-06-1127P) | The Honorable Saji George, Mayor, Town of Sunnyvale, 127 North Collins Road, Sunnyvale, TX 75182 | Development Services Department, 127 North Collins Road, Sunnyvale, TX 75182 | https://msc.fema.gov/portal/advanceSearch | Dec. 7, 2018 | 480188
Parker | Unincorporated areas of Parker County (18-06-1021P) | The Honorable Mark Riley, Parker County Judge, 1 Courthouse Square, Weatherford, TX 76086 | Parker County Emergency Management Department, 215 Trinity Street, Weatherford, TX 76086 | https://msc.fema.gov/portal/advanceSearch | Nov. 30, 2018 | 480520
Rockwall | City of Heath (18-06-0869P) | The Honorable Kelson Elam, Mayor, City of Heath, 200 Laurence Drive, Heath, TX 75032 | City Hall, 200 Laurence Drive, Heath, TX 75032 | https://msc.fema.gov/portal/advanceSearch | Dec. 10, 2018 | 480545
Utah: Salt Lake | City of Draper (18-08-0572P) | The Honorable Troy K. Walker, Mayor, City of Draper, 1020 East Pioneer Road, Draper, UT 84020 | Community Development Department, 1020 East Pioneer Road, Draper, UT 84020 | https://msc.fema.gov/portal/advanceSearch | Dec. 26, 2018 | 490244
Virginia: Independent City | City of Roanoke (18-03-1202P) | Mr. Robert S. Cowell, Jr., Manager, City of Roanoke, 215 Church Avenue Southwest, Room 364, Roanoke, VA 24011 | Engineering Division, 215 Church Avenue Southwest, Room 350, Roanoke, VA 24011 | https://msc.fema.gov/portal/advanceSearch | Jan. 4, 2019 | 510130
Wyoming:
Sheridan | Town of Ranchester (18-08-0451P) | The Honorable Peter Clark, Mayor, Town of Ranchester, P.O. Box 695, Ranchester, WY 82839 | Town Hall, 145 Coffeen Street, Ranchester, WY 82839 | https://msc.fema.gov/portal/advanceSearch | Dec. 20, 2018 | 560046
Sheridan | Unincorporated areas of Sheridan County (18-08-0451P) | The Honorable Mike Nickel, Chairman, Sheridan County Board of Commissioners, 224 South Main Street, Suite B1, Sheridan, WY 82801 | Public Works, Planning and Engineering Department, 224 South Main Street, Suite B8, Sheridan, WY 82801 | https://msc.fema.gov/portal/advanceSearch | Dec. 20, 2018 | 560047

[FR Doc. 2018-23344 Filed 10-24-18; 8:45 am]

BILLING CODE 9110-12-P